ENVIRONMENTAL PROTECTION AGENCY

[FRL-8308-9]

Great Lakes Initiative (GLI) Toxicity Data Clearinghouse

AGENCY: Environmental Protection Agency (EPA).

ACTION: Notice.

SUMMARY: The Great Lakes Initiative Toxicity Data Clearinghouse (Clearinghouse) is available for use by States, Tribes, and other interested parties. The online Clearinghouse, developed in cooperation with the United States Environmental Protection Agency (USEPA) Headquarters, Regions 2, 3, and 5, and the Great Lakes States and Tribes, acts as a central location for toxicity data, exposure parameters, and supporting documents used in deriving water quality criteria and guidance values in the Great Lakes Basin.

FOR FURTHER INFORMATION CONTACT: Brian Thompson, Water Quality Branch (WQ-16J), U.S. EPA, Region 5, Water Division, 77 West Jackson Blvd., Chicago, IL 60604, (312) 353-6066, thompson.brian@epamail.epa.gov.

SUPPLEMENTARY INFORMATION:

I. General Information

The Clearinghouse was developed to support implementation of the Final Water Quality Guidance for the Great Lakes System (GLI). Data from the Clearinghouse can be shared among States and Tribes to assist them in developing or updating numeric water quality standards and guidance values for the protection of aquatic life, human health, and wildlife. In particular, States and Tribes can use the information in the Clearinghouse to help derive criteria for pollutants without specific numeric criteria published in the GLI (40 CFR Part 132).

Data in the Clearinghouse can be viewed online or downloaded in spreadsheet format. The Clearinghouse includes PDF versions of “fact sheets,” which provide methodology information on how State agencies and USEPA derive criteria and guidance values. The Clearinghouse also includes links to GLI-related documents, including Federal Register notices and technical support documents, as well as formulas that allow users to calculate criteria according to GLI methodologies. To access the Clearinghouse go to http://www.epa.gov/gliclearinghouse.

Dated: April 24, 2007.
Walter W. Kovalick, Jr.,
Acting Deputy Regional Administrator, Region 5.

[FR Doc. E7-8655 Filed 5-4-07; 8:45 am]

BILLING CODE 6560-50-P